DEPARTMENT OF JUSTICE

Membership of the Senior Executive Service Standing Performance Review Boards

AGENCY: Department of Justice.

ACTION: Notice of Department of Justice's standing members of the Senior Executive Service Performance Review Boards.

SUMMARY: Pursuant to the requirements of 5 U.S.C. 4314(c)(4), the Department of Justice announces the membership of its 2005 Senior Executive Service (SES) Standing Performance Review Boards (PRBs). The purpose of the PRBs is to provide fair and impartial review of SES performance appraisals, bonus recommendations and pay adjustments. The PRBs will make recommendations regarding the final performance ratings to be assigned, SES bonuses and/or pay adjustments to be awarded.

FOR FURTHER INFORMATION CONTACT: Jeanne N. Raymos, Assistant Director, Leadership Effectiveness Group, Personnel Staff, Justice Management Division, Department of Justice, Washington, DC 20530; (202) 616-3721.

Department of Justice 2005 Senior Executive Service Performance Review Board Federal Register Notice
Alcohol, Tobacco, Firearms, and Explosives:
Bailey, Gregg D | Assistant Director (Science and Technology)/Chief Information Officer.
Barrera, Hugo J | Deputy Assistant Director (Field Operations) East.
Bouchard, Michael R | Assistant Director (Field Operations).
Carter, Donnie A | Special Agent in Charge, Houston Field Division.
Carter, Ronnie A | Special Agent in Charge, Dallas Field Division.
Cavanaugh, James M | Division Director/Special Agent in Charge, Nashville Field Division.
Chase, Richard E | Assistant Director (OI) (OPRSO) Office of Professional Responsibility and Security Operations.
Cureton, Linda Y | Deputy Assistant Director (Science & Technology).
Domenech, Edgar Axel | Deputy Director.
Ethridge, Michael W | Director (Lab Services).
Ford, Wilfred L | Assistant Director (Public and Governmental Affairs).
Harris, Gregory | Chief of Staff.
Koett, Imelda M | Associate Chief Counsel (Litigation).
Logan, Mark | Assistant Director (Training and Professional Development).
Loos, Eleaner R | Associate CC (Admin/Ethics).
Mathis, Steve L | Deputy Assistant Director, Training and Professional Development.
McDermond, James E | Assistant Director, Office of Strategic Intelligence and Information.
McMahon, William G., Jr | Division Director/Special Agent in Charge, New York.
Moccia, Marguerite R | Assistant Director (Office of Management).
Nelson, Walfred A | Deputy Assistant Director (Enforcement Program and Services).
O'Brien, Virginia T | Assistant Director (Office of Strategic Intelligence and Information).
Raden, Lewis P | Assistant Director (Enforcement Program and Services).
Roehm, Jeffrey R | Deputy Assistant Director (OPRSO).
Rubenstein, Stephen R | Chief Counsel.
Stinnett, Melanie S | Deputy Chief Counsel.
Torres, John A | Division Director/Special Agent in Charge, Los Angeles, California.
Webb, James D | Deputy Assistant Director (Field OPS) West.
Zammillo Sr, James A | Deputy Assistant Director (Industry OP).
Antitrust Division:
Barnett, Thomas O | Deputy Assistant Attorney General.
Botti, Mark J | Chief Litigation I Section.
Connolly, Robert E | Chief, Philadelphia Field Office.
Davis, Nezida S | Chief, Atlanta Field Office.
Familant, Norman | Chief, Economic Litigation Section.
Giordano, Ralph T | Chief, New York Field Office.
Goodman, Nancy M | Chief, Telecommunications and Media Section.
Hammond, Scott D | Deputy Assistant Attorney General/Criminal Enforcement.
Hand, Edward T | Chief Foreign Commerce Section.
Hesse, Renata B | Chief, Networks and Technology Enforcement Section.
Heyer, Kenneth | Director of Economics.
King, Thomas D | Executive Officer.
Kramer II, J. Robert | Director of Operations.
Kursh, Gail | Deputy Director, Legal Policy.
Masoudi, Gerald F | Deputy Assistant Attorney General.
McDonald, John B | Deputy Assistant Attorney General.
O'Sullivan, Catherine G | Chief, Appellate Section.
Petrizzi, Maribeth | Chief, Litigation II Section.
Phelan, Lisa M | Chief, National Criminal Enforcement Section.
Potter, Robert A | Chief, Legal Policy Section.
Price Jr., Marvin N | Chief, Chicago Office.
Warren, Phillip H | Chief, San Francisco Field Office.
Watson, Scott M | Chief, Cleveland Office.
Bureau of Prisons:
Adams, Vanessa P | Warden, Petersburg, Virginia.
Anderson, Marty C | Warden, Rochester, Minnesota.
Apker, Craig | Warden, Otisville, New York.
Barron Jr, Jose | Warden, Marianna, Florida.
Beeler Jr, Arthur F | Warden, Butner, North Carolina (Medical Ctr/New Med).
Benov, Michael L | Senior Warden, Los Angeles, California.
Beusse, Robin Litman | Senior Deputy Assistant Director for Administration.
Bezy, Mark A | Warden, Terre Haute, Indiana.
Bledsoe, Bryan A | Warden, Lee, West Virginia.
Booker Jr, Joe W | Warden, Lexington, Kentucky.
Callahan, Dennis M | Warden, Oklahoma City, Oklahoma.
Compton, Bobby G | Warden, Lompoc, California.
Conley, Joyce K | Senior Deputy Assistant Director of Correctional Programs Division.
Dalius Jr, William F | Senior Deputy Assistant Director, Administration Division.
Davis, Randy J | Warden, Marion, Illinois.
De Rosa, Charles John | Warden, Phoenix, Arizona.
Dodrill, D. Scott | Regional Director, Northeast Region.
Drew, Darryl | Warden, Talladega, Alabama.
Garrett, Michael W | Senior Deputy Assistant Director Program Review Division.
Gunja, Joseph E | Regional Director, Western Region.
Hastings, Suzanne R | Warden, Big Sandy, Kentucky.
Haynes, Alfonso | Warden, Hazelton, West Virginia.
Holder, Carlyle I | Warden, Coleman, Florida.
Holt, Raymond E | Regional Director, Southeast Region.
Jeter, Cole A | Warden, Fort Worth, Texas.
Johns, Tracy | Warden, Coleman, Florida.
Kane, Thomas R | Assistant Director, Information Policy, and Public Affairs Division.
Kendall, Paul F | Senior Counsel/Legal Administrative.
Kenney, Kathleen M | Assistant Director, Office of General Counsel.
Laird, Paul M | Warden, Brooklyn, New York.
Lamanna, John J | Warden, Edgefield, South Carolina.
Lappin, Harley G | Director.
Le Blanc Jr, Whitney I | Assistant Director for Human Resources Management.
Lindsay, Cameron K | Warden, Waymart, Pennsylvania.
Maldonado Jr, Gerardo | Warden, Atlanta, Georgia.
McFadden, Robert E | Warden, Springfield, Missouri.
Menifee, Fredrick | Warden, Polluck, Louisiana.
Miner, Jonathan C | Warden, Fairton, New Jersey.
Morrison, Marvin D | Warden, New York, New York.
Nalley, Michael K | Regional Director, North Central Region.
Nash Jr, John L | Warden, Fort Dix, New Jersey.
Norwood, Joseph L | Warden, Victorville, California.
Reese, Constance N | Warden, Beaumont, Texas.
Sanders, Linda L | Warden, Forrest City, Arkansas.
Sasser, Bruce Kent | Assistant Director for Administration.
Schultz, Paul M | Warden, Atwater, California.
Schwalb, Steven B | Assistant Director, Industries, Education and Vocational Training Division.
Smith, Joseph V | Warden, Lewisburg, Pennsylvania.
Stansberry, Patricia R | Warden, Butner, North Carolina.
Stine, Donald L | Warden, McCreary, Kentucky.
Thigpen Sr, Morris L | Director, National Institute of Corrections.
Thompson, Ronald G | Regional Director, South Central Region.
Thoms, Maryellen | Assistant Director, Health Services Division.
Van Buren, Virginia L | Warden, Carswell, Texas.
Vanyur, John M | Assistant Director, Correctional Programs Division.
Vazquez, Jose M | Warden, Jesup, Georgia.
White, Kim M | Regional Director, Middle Atlantic Region.
Wiley, Ronnie | Warden, Florence, Colorado.
Williamson, Troy W | Warden, Allenwood, Pennsylvania.
Winn, David L | Warden, Fort Devens, Massachusetts.
Young Jr, Joseph P | Warden, Oakdale, Louisiana.
Zenk, Michael A | Senior Deputy Regional Director, Southeast Region.
Civil Division:
Allen, Gary W | Branch Director (Torts).
Baxter, Felix V | Branch Director (Federal Programs).
Bordeaux, Joann J | Deputy Branch Director (Torts).
Branda, Joyce R | Deputy Branch Director (Commercial).
Bruen Jr., James G | Special Litigation Counsel.
Bucholtz, Jeffrey S | Deputy Assistant Attorney General.
Cohen, David M | Branch Director (Commercial).
Cohn, Jonathan F | Deputy Assistant Attorney General.
Coppolino, Anthony J | Special Litigation Counsel (Federal Programs).
Davidson, Jeanne E | Deputy Branch Director (Commercial).
Eubanks, Sharon Y | Branch Director (Torts).
Garren, Timothy Patrick | Branch Director (Torts).
Garvey, Vincent Morgan | Deputy Branch Director (Federal Programs).
Glynn, John Patrick | Branch Director (Torts).
Hertz, Michael F | Branch Director (Commercial).
Hollis, Robert Mark | Office Director (Special Litigation Counsel).
Hunt, Joseph H | Branch Director (Federal Programs).
Hussey, Thomas W | Director, Office of Immigration.
Kanter, William G | Deputy Director (Appellate Staff).
Katsas, Gregory G | Deputy Assistant Attorney General.
Kinsella, James M | Deputy Director (Commercial).
Kline, David J | Deputy Branch Director (Oil).
Kohn, J. Christopher | Branch Director (Commercial).
Kopp, Robert E | Director, Appellate Staff.
Letter, Douglas N | Appellate Litigation Counsel.
Lieber, Sheila M | Deputy Branch Director.
Meron, Daniel | Principal Deputy Assistant Attorney General.
Nichols, Carl J | Deputy Assistant Attorney General.
O'Malley, Barbara B | Special Litigation Counsel.
Pyles, Phyllis J | Branch Director (Torts).
Rivera, Jennifer D | Branch Director (Federal Programs).
Schiffer, Stuart E | Deputy Assistant Attorney General.
Spooner, Sandra P | Deputy Branch Director (Commercial).
Sterrn, Mark B | Appellate Litigation Counsel.
Thirolf, Eugene M | Director, Office of Consumer Litigation.
Zwick, Kenneth L | Director of Management Programs.
Community Oriented Policing Services:
Peed, Carl R | Director.
Criminal Division:
Alexandre, Carl | Director, OPDAT.
Bianco, Joseph F | Deputy Assistant Attorney General.
Dion, John J | Chief, Counterespionage Section.
Edelman, Ronnie L | Deputy Chief, Counterterrorism Section.
Gangloff, Joseph E | Senior Counsel, Office of International Affairs.
Glazer, Sidney | Senior Appellate Counsel.
Goldberg, Stuart M | Deputy Chief for Litigation, Public Integrity Section.
Hillman, Noel L | Chief, Public Integrity Section.
Hochberg, Joshua R | Chief, Fraud Section.
Jones, Joseph M | Chief of International Training and Development.
Keeney, John C | Deputy Assistant Attorney General.
Killion, Maureen H | Senior Associate Director.
McHenry, Teresa L | Chief, Domestic Security Section.
McNally, Edward E | Senior Counsel.
O'Brien, Patrick M | Counsel to the Assistant Attorney General.
Ohr, Bruce G | Chief, Organized Crime & Racketeering Section.
O'Neil, Catherine M | Director, OCDETF.
Oosterbaan, Andrew | Chief, Child Exploitation and Obscenity Section.
Parent, Steven J | Executive Officer.
Parsky, Laura Haas | Deputy Assistant Attorney General.
Radek, Lee J | Senior Counsel, Asset Forfeiture and Money Laundering Section.
Reynolds, James S | Senior Counsel to the Assistant Attorney General.
Richard, Mark M | Senior Counsel.
Richter, John C | Principal Deputy Assistant Attorney General and Chief of Staff.
Rogers, Richard M | Senior Counsel to the Assistant Attorney General.
Rosenbaum, Eli M | Director, Office of Special Investigations.
Sabin, Barry M | Chief, Counter Terrorism Section.
Samuels, Julie E | Director, Office of Policy & Legislation.
Snow, Thomas G | Deputy Director, Office of International Affairs.
Stansell Gamm, Martha J | Chief, Computer Crime & Intellectual Property Section.
Stemler, Patty Merkamp | Chief, Appellate Section.
Swartz, Bruce Carlton | Deputy Assistant Attorney General.
Warlow, Mary Ellen | Director, Office of International Affairs.
Warren, Mary Lee | Deputy Assistant Attorney General.
Weber, Richard M | Chief, Asset Forfeiture and Money Laundering Section.
Civil Rights Division:
Baldwin, Katherine A | Deputy Special Counsel.
Brown Cutlar, Shanetta Y | Chief, Special Litigation Section.
Flynn, David K | Chief, Appellate Section.
Friedlander, Merrily A | Chief, Coordination & Review Section.
Glassman, Jeremiah | Chief, Educational Opportunities.
Greene, Irva D | Executive Officer.
Kim, Wan J | Deputy Assistant Attorney General.
King, Loretta | Deputy Assistant Attorney General.
Moskowitz, Albert N | Chief, Criminal Section.
Palmer, David J | Chief, Employment Litigation Section.
Rosenbaum, Steven H | Chief, Housing and Civil Enforcement.
Schlozman, Bradley J | Principal Deputy Assistant Attorney General.
Tanner, John K | Chief, Voting Section.
Wodatch, John L | Chief, Disability Rights Section.
Environment and Natural Resources Divisions:
Alexander, Samuel C | Chief, Indian Resources Section.
Bruffy, Robert L | Executive Officer.
Butler, Virginia P | Chief, Land Acquisition Section.
Cruden, John C | Deputy Assistant Attorney General.
Disheroon, Fred R | Special Litigation Counsel.
Emrich, Andrew C | Counsel to the Assistant Attorney General.
Fisherow, W. Benjamin | Deputy Chief, Environment Enforcement.
Gelber, Bruce S | Chief, Environmental Enforcement.
Grishaw, Letitia J | Chief, Environmental Defense Section.
Haugrud, Kevin | Chief, General Litigation Section.
Johnson, Kelly A | Deputy Assistant Attorney General.
Kilbourne, James C | Chief, Appellate Section.
McCabe, Catherine R | Deputy Chief, Environmental Enforcement Section.
Milius, Pauline H | Chief, Law and Policy Section.
Sobeck, Eileen | Deputy Assistant Attorney General.
Stewart, Howard P | Senior Litigation Counsel.
Uhlmann, David M | Chief, Environmental Crimes Section.
Williams, Jean E | Chief, Wildlife & Marine Resources.
Executive Office of Immigration Review:
Creppy, Michael J | Chief Immigration Judge.
Keller, Mary Beth | General Counsel.
Nasca, Paula N | Associate Director.
Ohlson, Kevin A | Deputy Director.
Perkins, Jack | Director of Operations, Board of Immigration Appeals.
Rooney, Kevin D | Director.
Scialabba, Lori L | Chairman, Board of Immigration Appeals.
Executive Office for the United States Attorneys:
Bailie, Michael W | Director, Office of Legal Education.
Battle, Michael A | Director.
Bevels, Lisa A | Deputy Director, Financial Mgmt.
Downs, David W | Deputy Director for Operations.
Goolding, Monica M | Deputy Director.
Sanford Jr., Lewis R | Chief Information Officer.
Executive Office for United States Trustees:
Miller, Jeffrey M | Associate Director.
White III, Clifford J | Deputy Director.
Justice Management Division:
Allen, Michael H | Deputy Assistant Attorney General for Policy, Management, and Planning.
Cinciotta, Linda A | Senior Counsel for Alternative Dispute Resolution.
Corts, Paul R | Assistant Attorney General for Administration.
Deacon, Ronald L | Director, Facilities and Administrative Services Staff.
Defalaise, Louis | Director, Office of Attorney Recruitment and Management.
Dessy, Blane K | Director, Library Staff.
Duffy, Michael D | Director, E-Government Services Staff.
Dunlap, James L | Director, Security and Emergency Planning Staff.
Frisch, Stuart | General Counsel.
Haggerty, Kathleen A | Director, Debt Collection Management Staff.
Heretick, Dennis J | Director, Information Security Staff.
Hitch, Vance E | Deputy Assistant Attorney General/Chief Information Officer.
Holtgrewe, Kent L | Director, IT Policy and Planning Staff.
Johnston, James W | Director, Procurement Services Staff.
Lauria Sullens, Jolene A | Director, Budget Staff.
Lindsey, Justin R | Chief Technology Officer.
Lofthus, Leon J | Deputy Assistant Attorney General/Controller.
McBurrows, Theodius | Director, Equal Employment Opportunity Staff.
Morgan, Melinda B | Director, Finance Staff.
Murray, John W | Director, Enterprise Solutions Staff.
O'Leary, Karin | Deputy Director (Programs and Performance), Budget Staff.
Orr, David Marshall | Director, Management and Planning Staff.
Perez, Michael A | Director, Asset Forfeiture Management Staff.
Santangelo, Mari Barr | Deputy Assistant Attorney General for Human Resources and Administration (CHCO).
Schultz Jr., Walter H | Deputy Director, Budget Staff.
Tomchek, Debra M | Director, Human Resources.
National Drug Intelligence Center:
Walther, Michael F | Director, National Drug Intelligence Center.
Office of the Attorney General:
Sampson, D. Kyle | Deputy Chief of Staff and Counselor to the Attorney General.
Ullyot, Theodore W | Chief of Staff.
Office of the Associate Attorney General:
Gorsuch, Neil M | Principal Deputy Associate Attorney General.
Henke, Tracy A | Deputy Associate Attorney General.
Kessler, Elizabeth A | Deputy Associate Attorney General.
Reyes, Luis A | Chief of Staff & Deputy Associate Attorney General.
Swenson, Lily F | Deputy Associate Attorney General.
Office of the Deputy Attorney General:
Dhillon, Uttam S | Associate Deputy Attorney General.
Margolis, David | Associate Deputy Attorney General.
Monheim, Thomas A | Associate Deputy Attorney General.
Nivala, Gregg R | Regime Crimes Liaison.
Philbin, Patrick F | Associate Deputy Attorney General.
Rosenberg, Charles P | Chief of Staff.
Office of Federal Detention Trustee:
Hylton, Stacia A | Federal Detention Trustee.
Office of the Inspector General:
Fortine Ochoa, Carol A | Assistant Inspector General for Oversight & Review.
Martin, Paul K | Deputy Inspector General.
McLaughlin, Thomas F | Assistant Inspector General for Investigation.
Peters, Gregory T | Assistant Inspector General for Management & Planning.
Price, Paul A | Assistant Inspector General, Evaluation and Inspection.
Zimmerman, Guy K | Assistant Inspector General for Audit.
Office of Information and Privacy:
Huff, Richard L | Director (Policy & Admin Appeals).
Metacalfe, Daniel J | Director (Policy & Lit).
Office of Intergovernmental and Public Liaison:
Roberts, Crystal M | Director.
Office of Intelligence Policy and Review:
Baker, James A | Counsel for Intelligence Policy.
Bradley, Mark A | Deputy Counsel for Intelligence Policy.
Kennedy, John Lionel | Deputy Counsel for Intelligence Law.
Skelly Nolen, Margaret A | Deputy Counsel for Intelligence Operations.
Office of Justice Programs:
Daley, Cybele K | Deputy Assistant Attorney General.
Feucht, Thomas E | Deputy Director, Research and Evaluation, NIJ.
Fralick, Gerald L | Chief Information Officer.
Greenhouse, Dennis E | Deputy Director, OVC.
Hernandez, Nelson | Director, Community Capacity Development.
Hightower, Carolyn A | Principal Deputy Director, OVC.
Madan, Rafael A | General Counsel.
McFarland, Steven T | Director, Faith-Based Task Force.
Morgan, John S | Director, Office of Science and Technology, NIJ.
Nolan, Cheryl C | Deputy Assistant Attorney General.
Roberts, Marilyn M | Deputy Director, Programs, OJJDP.
Schwimer, Cynthia J | Comptroller.
Segerdahl-Ayers, Nancy Lynn | Director of Communications.
Silver, Gary Neil | Director, Office of Administration.
Burton, M. Faith | Special Counsel.
Clinger, James H | Deputy Assistant Attorney General.
Seidel, Rebecca S | Deputy Assistant Attorney General.
Office of Legal Counsel:
Boardman, Michelle | Deputy Assistant Attorney General.
Bradbury, Steven G | Deputy Assistant Attorney General.
Colborn, Paul P | Special Counsel.
Hart, Rosemary A | Special Counsel.
Koffsky, Daniel L | Special Counsel.
Marshall C. Kevin | Deputy Assistant Attorney General.
Office of Legal Policy:
Hertling, Richard A | Principal Deputy Assistant Attorney General.
Jones, Kevin Robert | Deputy Assistant Attorney General.
McIntosh, Brent J | Deputy Assistant Attorney General.
Remington, Kristi L | Deputy Assistant Attorney General.
Office of the Pardon Attorney:
Adams, Roger C | Pardon Attorney.
Office of Professional Responsibility:
Jarrett, H. Marshall | Counsel on Prof Responsibility.
Wish, Judith B | Deputy Counsel on Prof Responsibility.
Office of the Solicitor General:
Dreeben, Michael R | Deputy Solicitor General.
Hungar, Thomas G | Deputy Solicitor General.
Kneedler, Edwin S | Deputy Solicitor General.
Office of Violence Against Women:
Bottner, Andrea G | Principal Deputy Director, Office of Violence Against Women.
Office of Public Affairs:
Scolinos, Tasia M | Director.
Professional Responsibility Advisory Office:
Flynn, Claudia Jeanne | Director, Professional Responsibility Advisory Office.
Tax Division:
Cimino, Ronald Allen | Chief, Criminal Enforcement Section, Western Region.
Csontos, Stephen J | Special Litigation Counsel.
Donohue, Dennis M | Senior Litigation Counsel.
Fallon, Claire | Deputy Assistant Attorney General.
Heald, Seth G | Chief, Civil Trial Section, Central Region.
Hechtkopf, Alan | Chief, Criminal Appeals and Tax Enforcement Policy Section.
Hofer, Patrick F | Deputy Assistant Attorney General.
Hubbert, David A | Chief, Civil Trial Section, Eastern Region.
Hytken, Louise P | Chief, Civil Trial Section, Southwest Region.
Kearns, Michael J | Chief, Civil Trial Section, Southern Region.
Morrison, Richard T | Deputy Assistant Attorney General.
Mullarkey, Daniel P | Chief, Civil Trial Section, Northern Region.
Paguni, Rosemary E | Chief, Criminal Enforcement Section, Northern Region.
Rothenberg, Gilbert S | Chief, Appellate Section.
Salad, Bruce M | Chief, Criminal Enforcement Section, Southern Region.
Seidman, Mildred L | Chief, Claims Court Section.
Watkins, Robert S | Chief, Civil Trial Section Western Region.
Young, Joseph E | Executive Officer.
United States Marshals Service:
Auerbach, Gerald | General Counsel.
Brown, Broadine M | Assistant Director for Management & Budget.
Dolan, Edward | Chief Financial Officer.
Farmer, Marc A | Assistant Director for Judicial Security.
Finan II, Robert J | Assistant Director for Investigative Services.
Gambatesa, Donald A | Deputy Director.
Jones, Sylvester E | Assistant Director for Witness Security and Prisoner Operations.
Litman, Diane C | Assistant Director for Information Technology.
Mead, Gary E | Assistant Director for Business Services.
Pearson, Michael A | Assistant Director for Executive Services.
Pekarek, Kenneth L | Assistant Director for JPATS.
Roderick Jr., Arthur D | Assistant Director for Operations Support.
Smith, Suzanne D | Assistant Director of Human Resources.
Sullivan, James M | Special Assistant.

Jeanne N. Raymos,
Executive Secretary, Senior Executive Resources Board.

[FR Doc. 05-21357 Filed 10-26-05; 8:45 am]

BILLING CODE 4410-AR-M